DEPARTMENT OF TRANSPORTATION

Federal Aviation Administration

14 CFR Part 39

[Docket No. 2002-NM-08-AD]

RIN 2120-AA64

Airworthiness Directives; McDonnell Douglas Model DC-10-10, DC-10-10F, DC-10-15, DC-10-30, DC-10-30F, DC-10-30F (KC-10A and KDC-10), DC-10-40, and DC-10-40F Airplanes

AGENCY: Federal Aviation Administration, DOT.

ACTION: Notice of proposed rulemaking (NPRM).

SUMMARY: This document proposes the adoption of a new airworthiness directive (AD) that is applicable to certain McDonnell Douglas airplanes listed above. This proposal would require a one-time inspection for damage of the power feeder cables and surrounding structure, and repair if necessary. For certain airplanes, this proposal would require fabricating and installing a power feeder support bracket assembly and clamps at station Y=595.000, left side. For certain other airplanes, this proposal would require installing two power feeder support brackets and clamps at station Y=606.000, left side. This action is necessary to prevent chafing of the external ground power feeder cables against the adjacent structure, which could result in arcing and fire. This action is intended to address the identified unsafe condition.

DATES: Comments must be received by October 23, 2003.

ADDRESSES: Submit comments in triplicate to the Federal Aviation Administration (FAA), Transport Airplane Directorate, ANM-114, Attention: Rules Docket No. 2002-NM-08-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2002-NM-08-AD” in the subject line and need not be submitted in triplicate. Comments sent via the Internet as attached electronic files must be formatted in Microsoft Word 97 or 2000 or ASCII text.

The service information referenced in the proposed rule may be obtained from Boeing Commercial Aircraft Group, Long Beach Division, 3855 Lakewood Boulevard, Long Beach, California 90846, Attention: Data and Service Management, Dept. C1-L5A (D800-0024). This information may be examined at the FAA, Transport Airplane Directorate, 1601 Lind Avenue, SW., Renton, Washington; or at the FAA, Los Angeles Aircraft Certification Office, 3960 Paramount Boulevard, Lakewood, California.

FOR FURTHER INFORMATION CONTACT: Natalie Phan-Tran, Aerospace Engineer, Systems and Equipment Branch, ANM-130L, FAA, Los Angeles Aircraft Certification Office, 3960 Paramount Boulevard, Lakewood, California 90712-4137; telephone (562) 627-5343; fax (562) 627-5210.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NM-08-AD.” The postcard will be date stamped and returned to the commenter.

Availability of NPRMs

Any person may obtain a copy of this NPRM by submitting a request to the FAA, Transport Airplane Directorate, ANM-114, Attention: Rules Docket No. 2002-NM-08-AD, 1601 Lind Avenue, SW., Renton, Washington 98055-4056.

Discussion

The FAA has received a report of arcing and a fire on a McDonnell Douglas Model DC-10 airplane in the area of the external ground power feeder cables and the adjacent structure at station Y=595.000, left side, at longerons 40 and 41. Chafing of the cables against the structure was discovered during maintenance. Investigation has revealed that, lacking any clamping in the area, the power feeder cables had been pulled taut against the adjacent structure, resulting in the chafing. This condition, if not corrected, could result in arcing and fire at this location.

Explanation of Relevant Service Information

The FAA has reviewed and approved Boeing Alert Service Bulletin DC10-24A171, Revision 02, dated March 7, 2003. The service bulletin describes procedures for a visual inspection of the power feeder cables and surrounding structure for damage, and repair if necessary. In addition, for Group 1 and Group 3 airplanes, which have a floor beam at station Y=595.000, the service bulletin describes procedures for fabricating and installing a power feeder support bracket assembly and clamps at station Y=595.000, left side. For Group 2 airplanes, which have a floor beam at station Y=606.000, the service bulletin describes procedures for installing two power feeder support brackets and clamps at station Y=606.000, left side. Accomplishment of the actions specified in the service bulletin is intended to adequately address the identified unsafe condition.

Explanation of Requirements of Proposed Rule

Since an unsafe condition has been identified that is likely to exist or develop on other products of this same type design, the proposed AD would require accomplishment of the actions specified in the service bulletin described previously, except as described below.

Changes to 14 CFR part 39/Effect on the Proposed AD

On July 10, 2002, the FAA issued a new version of 14 CFR part 39 (67 FR 47997, July 22, 2002), which governs the FAA's airworthiness directives system. The regulation now includes material that relates to altered products, special flight permits, and alternative methods of compliance (AMOCs). This proposed AD identifies the office authorized to approve AMOCs in paragraph (c).

Change to Labor Rate Estimate

We have reviewed the figures we have used over the past several years to calculate AD costs to operators. To account for various inflationary costs in the airline industry, we find it necessary to increase the labor rate used in these calculations from $60 per work hour to $65 per work hour. The cost impact information, below, reflects this increase in the specified hourly labor rate.

Cost Impact

There are approximately 59 airplanes of the affected design in the worldwide fleet. The FAA estimates that 44 airplanes of U.S. registry would be affected by this proposed AD.

It would take approximately 2 to 3 work hours per airplane to accomplish the proposed actions, at an average labor rate of $65 per work hour. Required parts would cost approximately $385 per airplane. Based on these figures, the cost impact of the proposed AD on U.S. operators is estimated to be $22,660 to $25,520, or $515 to $580 per airplane.

The cost impact figure discussed above is based on assumptions that no operator has yet accomplished any of the proposed requirements of this AD action, and that no operator would accomplish those actions in the future if this proposed AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

McDonnell Douglas: Docket 2002-NM-08-AD.

Applicability: Model DC-10-10, DC-10-10F, DC-10-15, DC-10-30, DC-10-30F, DC-10-30F (KC-10A and KDC-10), DC-10-40, and DC-10-40F airplanes; certificated in any category; as listed in Boeing Alert Service Bulletin DC10-24A171, Revision 02, dated March 7, 2003.

Compliance: Required as indicated, unless accomplished previously.

To prevent chafing of the external ground power feeder cables against the adjacent structure, which could result in arcing and fire, accomplish the following:

Inspection

(a) Within 6 months after the effective date of this AD: Perform a general visual inspection for damage of the power feeder cables and surrounding structure, in accordance with the Accomplishment Instructions of Boeing Alert Service Bulletin DC10-24A171, Revision 02, dated March 7, 2003. If any damage is found, repair it before further flight in accordance with the service bulletin. Inspections and repairs done before the effective date of this AD in accordance with Revision 01 of the service bulletin, dated November 6, 2002, are also acceptable for compliance with the requirements of this paragraph.

Note: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

Bracket Installation

(b) Within 6 months after the effective date of this AD: Perform the actions specified in paragraphs (b)(1) and (b)(2) of this AD in accordance with the Accomplishment Instructions of Boeing Alert Service Bulletin DC10-24A171, Revision 02, dated March 7, 2003. Accomplishment of the actions before the effective date of this AD in accordance with Revision 01 of the service bulletin, dated November 6, 2002 is also acceptable for compliance with the requirements of this paragraph.

(1) For Group 1 and Group 3 airplanes: Fabricate and install a new power feeder support bracket assembly and clamps at station Y=595.000, left side. Bracket fabrication and installation done before the effective date of this AD in accordance with the original issue of the service bulletin, dated October 18, 2001, is also acceptable for compliance with the requirements of paragraph (b)(1) of this AD.

(2) For Group 2 airplanes: Install 2 power feeder support brackets and clamps at station Y=606.000, left side.

Alternative Methods of Compliance

(c) In accordance with 14 CFR 39.19, the Manager, Los Angeles Aircraft Certification Office, FAA, is authorized to approve alternative methods of compliance for this AD.

Issued in Renton, Washington, on August 29, 2003.
Vi L. Lipski,
Manager, Transport Airplane Directorate, Aircraft Certification Service.

[FR Doc. 03-22709 Filed 9-5-03; 8:45 am]

BILLING CODE 4910-13-P